DEPARTMENT OF ENERGY

Environmental Management Site-Specific Advisory Board, Savannah River Site

AGENCY: Office of Environmental Management, Department of Energy.

ACTION: Notice of open virtual meeting.

SUMMARY: This notice announces an online virtual meeting of the Environmental Management Site-Specific Advisory Board (EM SSAB), Savannah River Site. The Federal Advisory Committee Act requires that public notice of this online virtual meeting be announced in the Federal Register.

DATES: Monday, September 20, 2021; 1:00 p.m.-4:15 p.m.

ADDRESSES: Online Virtual Meeting. To attend, please send an email to: srscitizensadvisoryboard@srs.gov by no later than 4:00 p.m. ET on Friday, September 17, 2021.

FOR FURTHER INFORMATION CONTACT: Amy Boyette, Office of External Affairs, U.S. Department of Energy (DOE), Savannah River Operations Office, P.O. Box A, Aiken, SC 29802; Phone: (803) 952-6120; email: srscitizensadvisoryboard@srs.gov.

SUPPLEMENTARY INFORMATION: Purpose of the Board: The purpose of the Board is to make recommendations to DOE-EM and site management in the areas of environmental restoration, waste management, and related activities.

Tentative Agenda:

—Chair Update

—Agency Updates

—Infrastructure at the Savannah River Site

—Board Discussion:

○ DOE Response to Recommendation #370, Revise the Member Appointment Process

○ Update to Standard Operating Procedures, Breaking Ties During Board Elections

—Reading of Public Comments

—Voting: Update to Standard Operating Procedures, Breaking Ties During Board Elections

Public Participation: The online virtual meeting is open to the public. Written statements may be filed with the Board via email either before or after the meeting as there will not be opportunities for live public comment during this online virtual meeting. Public comments received by no later than 4:00 p.m. ET on Friday, September 17, 2021, will be read aloud during the virtual meeting. Comments will be accepted after the meeting, by no later than 4:00 p.m. ET on Monday, September 27, 2021. Please submit comments to srscitizensadvisoryboard@srs.gov. The Deputy Designated Federal Officer is empowered to conduct the meeting in a fashion that will facilitate the orderly conduct of business. Individuals wishing to submit public comments should email them as directed above.

Minutes: Minutes will be available by writing or calling Amy Boyette at the address or telephone number listed above. Minutes will also be available at the following website: https://cab.srs.gov/srs-cab.html.

Signed in Washington, DC, on August 24, 2021.
LaTanya Butler,
Deputy Committee Management Officer.

[FR Doc. 2021-18609 Filed 8-27-21; 8:45 am]

BILLING CODE 6450-01-P